DEPARTMENT OF THE TREASURY

Agency Information Collection Activities; Submission for OMB Review; Comment Request; Multiple Fiscal Service Information Collection Requests

AGENCY: Departmental Offices, Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before June 30, 2022 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Bureau of the Fiscal Service (BFS)

1. Title: Claims Against the U.S. for Amounts Due in Case of a Deceased Creditor.

OMB Control Number: 1530-0004.

Type of Review: Extension without change of a currently approved collection.

Description: This form is required to determine who is entitled to funds of a deceased Postal Savings depositor or deceased award holder. The form properly completed with supporting documents enables this office to decide who is legally entitled to payment.

Form: SF 1055.

Affected Public: Individuals and households.

Estimated Number of Respondents: 400.

Frequency of Response: Once.

Estimated Total Number of Annual Responses: 400.

Estimated Time per Response: 27 minutes.

Estimated Total Annual Burden Hours: 180.

2. Title: Voucher for Payment of Awards.

OMB Control Number: 1530-0012.

Type of Review: Extension without change of a currently approved collection.

Description: Awards certified to Treasury are paid annually as funds are received from foreign governments. Vouchers are mailed to awardholders showing payments due. Awardholders sign vouchers certifying that he/she is entitled to payment.

Form: FS Form 5135.

Affected Public: Individuals and households.

Estimated Number of Respondents: 1,400.

Frequency of Response: Once.

Estimated Total Number of Annual Responses: 1,400.

Estimated Time per Response: 30 minutes.

Estimated Total Annual Burden Hours: 700.

3. Title: Application by Voluntary Guardian of Incapacitated Owner of United States Savings Bonds/Notes.

OMB Control Number: 1530-0031.

Type of Review: Extension without change of a currently approved collection.

Description: This form is used by the voluntary guardian of incapacitated bond owner(s) to establish the right to act on behalf of the owner.

Form: PD F 2513.

Affected Public: Individuals and households.

Estimated Number of Respondents: 1,000.

Frequency of Response: Once.

Estimated Total Number of Annual Responses: 1,000.

Estimated Time per Response: 20 minutes.

Estimated Total Annual Burden Hours: 333.

4. Title: Application for Issue of United States Mortgage Guaranty Insurance Company Tax and Loss Bonds.

OMB Control Number: 1530-0052.

Type of Review: Extension without change of a currently approved collection.

Description: This form is submitted by companies engaged in the business of writing mortgage guaranty insurance for the purpose of purchasing “Tax and Loss” bonds.

Form: FS Form 3871.

Affected Public: Businesses or other for-profits.

Estimated Number of Respondents: 33.

Frequency of Response: On occasion.

Estimated Total Number of Annual Responses: 33.

Estimated Time per Response: 15 minutes.

Estimated Total Annual Burden Hours: 8.

5. Title: Disposition of Securities Belonging to a Decedent's Estate Being Settled Without Administration.

OMB Control Number: 1530-0055.

Type of Review: Extension without change of a currently approved collection.

Description: The information is collected from a voluntary representative of a decedent's estate to support a request for disposition of United States Treasury Securities and/or related payments in the event that the estate is not being administered.

Form: FS Form 5336.

Affected Public: Individuals and households.

Estimated Number of Respondents: 25,350.

Frequency of Response: Once.

Estimated Total Number of Annual Responses: 25,350.

Estimated Time per Response: 30 minutes.

Estimated Total Annual Burden Hours: 12,675.

Authority: 44 U.S.C. 3501 et seq.

Spencer W. Clark,
Treasury PRA Clearance Officer.

[FR Doc. 2022-11640 Filed 5-27-22; 8:45 am]

BILLING CODE 4810-AS-P